DEPARTMENT OF COMMERCE

International Trade Administration

[A-588-880]

Lightweight Thermal Paper From Japan: Rescission of Antidumping Duty Administrative Review; 2022-2023

AGENCY: Enforcement and Compliance, International Trade Administration, Department of Commerce.

SUMMARY: The U.S. Department of Commerce (Commerce) is rescinding the administrative review of the antidumping duty (AD) order on lightweight thermal paper (thermal paper) from Japan for the period of review (POR) November 1, 2022, through October 31, 2023.

DATES: Applicable March 13, 2024.

FOR FURTHER INFORMATION CONTACT: Rebecca Janz, AD/CVD Operations, Office II, Enforcement and Compliance, International Trade Administration, U.S. Department of Commerce, 1401 Constitution Avenue NW, Washington, DC 20230; telephone: (202) 482-2972.

SUPPLEMENTARY INFORMATION:

Background

On November 22, 2021, Commerce published in the Federal Register the AD order on thermal paper from Japan.¹ On November 2, 2023, Commerce published in the Federal Register a notice of opportunity to request an administrative review of the Order.² On November 30, 2023, Lollicup USA Incorporated (Lollicup USA), a U.S. importer, submitted a timely request that Commerce conduct an administrative review of the Order with respect to Nippon Paper Industries Co., Ltd. and Nippon Paper Papylia Co., Ltd. (collectively, Nippon Paper), the producer and exporter of Lollicup USA's imports of subject merchandise.³

¹ See Thermal Paper from Germany, Japan, the Republic of Korea, and Spain: Antidumping Duty Orders, 86 FR 66284 (November 22, 2021) (Order).

² See Antidumping or Countervailing Duty Order, Finding, or Suspended Investigation; Opportunity to Request Administrative Review and Join Annual Inquiry Service List, 88 FR 75270 (November 2, 2023).

³ See Lollicup USA's Letter, “Administrative Review Request,” dated November 30, 2023. In the underlying investigation, Commerce determined it was appropriate to treat Nippon Paper Industries Co., Ltd. and Nippon Paper Papylia Co. Ltd. as a single entity. See Thermal Paper from Japan: Preliminary Affirmative Determination of Sales at Less Than Fair Value, Postponement of the Final Determination, and Extension of Provisional Measures, 86 FR 26011 (May 12, 2021), and accompanying Preliminary Decision Memorandum at 7 n.2, unchanged in Thermal Paper from Japan: Final Affirmative Determination of Sales at Less Than Fair Value, 86 FR 54157 (September 30, 2021). Given the lack of any information to the contrary on the record of this review, we continue to find it is appropriate to treat these companies as a single entity.

On December 29, 2023, Commerce published in the Federal Register a notice of initiation of administrative review with respect to imports of thermal paper exported and/or produced by Nippon Paper, in accordance with section 751(a) of the Tariff Act of 1930, as amended (the Act), and 19 CFR 351.221(c)(1)(i).⁴ On January 4, 2024, we placed on the record U.S. Customs and Border Protection (CBP) data for entries of thermal paper from Japan during the POR, showing no reviewable POR entries and invited interested parties to comment.⁵ No interested party submitted comments to Commerce regarding the CBP data.

⁴ See Initiation of Antidumping and Countervailing Duty Administrative Reviews, 88 FR 90168 (December 29, 2023).

⁵ See Memorandum, “Customs Entry Data from U.S. Customs and Border Protection,” dated January 4, 2024.

Additionally, on February 9, 2024, Commerce notified all interested parties of its intent to rescind the instant review in full because there were no reviewable, suspended entries of subject merchandise by Nippon Paper during the POR and invited interested parties to comment.⁶ No interested party submitted comments to Commerce in response to this notice.

⁶ See Commerce's Letter, “Notice of Intent to Rescind Review,” dated February 9, 2024.

Rescission of Review

Pursuant to 19 CFR 351.213(d)(3), it is Commerce's practice to rescind an administrative review of an AD order when there are no reviewable entries of subject merchandise during the POR for which liquidation is suspended.⁷ Normally, upon completion of an administrative review, the suspended entries are liquidated at the AD assessment rate calculated for the review period.⁸ Therefore, for an administrative review to be conducted, there must be a reviewable, suspended entry that Commerce can instruct CBP to liquidate at the AD assessment rate calculated for the review period.⁹ As noted above, there were no entries of subject merchandise for Nippon Paper during the POR. Accordingly, in the absence of suspended entries of subject merchandise during the POR, we are hereby rescinding this administrative review, in its entirety, in accordance with 19 CFR 351.213(d)(3).

⁷ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

⁸ See 19 CFR 351.212(b)(1).

⁹ See 19 CFR 351.213(d)(3).

Assessment

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4).

Dated: March 7, 2024.
James Maeder,
Deputy Assistant Secretary for Antidumping and Countervailing Duty Operations.

[FR Doc. 2024-05265 Filed 3-12-24; 8:45 am]

BILLING CODE 3510-DS-P